DEPARTMENT OF HEALTH AND HUMAN SERVICES

National Institutes of Health

Center for Scientific Review; Amended Notice of Meeting

Notice is hereby given of a change in the meeting of the Vascular Cell and Molecular Biology Study Section, June 19, 2006, 8 a.m. to June 20, 2006, 5 p.m., Hilton Silver Spring, 8727 Colesville Road, Silver Spring, MD 20910 which was published in the Federal Register on May 11, 2006, 71 FR 27505-27507.

The meeting will be held at the Latham Hotel, 3000 M Street, NW., Washington, DC 20007. The meeting dates and time remain the same. The meeting is closed to the public.

Dated: May 17, 2006.
Anna Snouffer,
Acting Director, Office of Federal Advisory Committee Policy.

[FR Doc. 06-4783 Filed 5-22-06; 8:45am]

BILLING CODE 4140-01-M